DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 81 FR 84583-84591, dated November 23, 2016) is amended to reflect the reorganization of the National Center for Environmental Health, Office of Noncommunicable Diseases, Injury and Environmental Health, Centers for Disease Control and Prevention.

Section C-B, Organization and Functions, is hereby amended as follows:

Delete in its entirety the titles and mission and function statements for the National Center for Environmental Health (CUG) and insert the following:

National Center for Environmental Health (CUG). Plans, directs, and coordinates a national program to maintain and improve the health of the American people by promoting a healthy environment and by preventing premature death and avoidable illness and disability caused by non infectious, non occupational environmental and related factors. In carrying out this mission, the Center: (1) Assists in increasing the capacity of States to prevent and control environmental public health problems through training, technology transfer, grants, cooperative agreements, contracts, and other means; (2) provides services, advice, technical assistance, and information to State and local public health officials, other Federal agencies, academic, professional, international, and private organizations, and the general public; (3) plans for and provides emergency response assistance to States, localities, other Federal agencies, and international organizations; (4) identifies, designs, develops, implements, influences, and evaluates interventions to reduce or eliminate environmental hazards, exposures to these hazards, and adverse health outcomes resulting from exposure to these hazards; (5) measures, estimates, and predicts the incidence of adverse health outcomes through surveillance, surveys, and registries; (6) measures, estimates, and predicts the incidence of exposure to substances, conditions, or forces in the environment through surveillance, surveys, and registries; (7) describes and evaluates associations between environmental exposures and adverse health outcomes by using information from surveillance systems, surveys, registries, epidemiologic and laboratory studies, and by developing and maintaining a broad base of normative and diagnostic laboratory data; (8) develops and validates advanced laboratory technology for diagnosing selected chronic diseases and for assessing exposure and health effects in persons exposed or potentially exposed to environmental toxicants or other environmental agents; (9) develops and validates new epidemiologic techniques for use in study of the effects of exposure to environmental hazards; (10) provides leadership in coordinating efforts in States and in national and international organizations concerned with standardizing selected laboratory measurement systems; (11) conducts special programs, e.g., coordination and review of Environmental Impact Statements; and (12) in carrying out the above functions, collaborates, as appropriate, with other Centers/Institute/Offices of CDC.

Office of the Director (CUG1). (1) Manages, directs, coordinates, and evaluates all health-related programs of National Center for Environmental Health and Agency for Toxic Substances and Disease Registry (NCEH & ATSDR); (2) provides overall leadership in health-related activities for hazardous substances, hazardous waste sites and chemical releases; (3) provides overall coordination for the research programs and science policies of the agencies; (4) develops goals and objectives and provides leadership, policy formulation, scientific oversight, and guidance in program planning and development; (5) provides overall programmatic direction for planning and management oversight of allocated resources, human resource management and administrative support; (6) provides information, publication and distribution services to NCEH & ATSDR; (7) maintains liaison with other Federal, State, and local agencies, institutions, and organizations; (8) coordinates NCEH & ATSDR program activities with other CDC components, other Federal, State and local Government agencies, the private sector, and other nations; and (9) directs and coordinates activities in support of the Department's Equal Employment Opportunity program and employee development.

Office of Communication (CUG12). (1) Serves as the principal advisor to the center director and divisions on communication and marketing science, research, practice, and public affairs; (2) leads center strategic planning for communication and marketing science and public affairs programs and projects; (3) analyzes context, situation, and environment to inform center-wide communication and marketing programs and projects; (4) ensures use of scientifically sound research for marketing and communication programs and projects; (5) ensures accurate, accessible, timely, and effective translation of science for use by multiple audiences; (6) leads identification and implementation of information dissemination channels; (7) provides communication and marketing project management expertise; (8) collaborates with external organizations and the news, public service, and entertainment and other media to ensure that scientific findings and their implications for public health reach the intended audiences; (9) collaborates closely with divisions to produce materials tailored to meet the requirements of news and other media channels, including press releases, letters to the editor, public service announcements, television programming, video news releases, and other electronic and printed materials; (10) coordinates the development and maintenance of accessible public information through the internet, social media and other applicable channels; (11) provides training and technical assistance in the areas of health communication, risk communication, social marketing, and public affairs; (12) manages or coordinates communication services such as internet/Intranet, application development, social media, video production, graphics, photography, CDC name/logo use and other brand management; (13) provides editorial services, including writing, editing, and technical editing; (14) facilitates internal communication to center staff and allied audiences; (15) supervises and manages Office of Communications activities, programs, and staff; (16) serves as liaison to internal and external groups to advance the center's mission; (17) collaborates with the CDC Office of the Associate Director for Communication on media relations, electronic communication, health media production, and brand management activities; (18) collaborates with the Office of Public Health Preparedness and Response and other NCEH & ATSDR entities to fulfill communication responsibilities in emergency response situations; (19) collaborates with other CDC Centers/Institute/Offices in the development of marketing communications targeted to populations that would benefit from a cross-functional approach; and (20) ensures NCEH & ATSDR materials meet CDC and Department of Health and Human Services standards.

Office of Policy, Partnerships and Planning (CUG13). (1) Coordinates, develops, recommends and implements strategic planning and tracking for NCEH & ATSDR; (2) develops and coordinates performance management to ensure achievement of goals in NCEH & ATSDR programs; (3) participates in reviewing, coordinating, and preparing legislation, briefing documents, Congressional testimony, and other legislative matters; (4) maintains liaison and coordinates with other Federal agencies for program planning and performance; (5) assists in the development of NCEH & ATSDR budget and program initiatives; (6) provides liaison with staff offices and other officials of CDC; (7) monitors and prepares reports on health-related activities to comply with provisions of relevant legislation; (8) coordinates the development, review, and approval of Federal regulations, Federal Register announcements, Freedom Of Information Act requests, GAO and IG reports, and related activities; (9) develops and strengthens strategic partnerships with key constituent groups; and (10) facilitates communication between NCEH & ATSDR and its partners.

Office of Management and Analytics (CUG14). (1) Plans, manages, directs, and conducts the administrative and financial management operations of NCEH & ATSDR; (2) reviews the effectiveness and efficiency of administration and operation of all NCEH & ATSDR programs; (3) develops and directs systems for human resource management, financial services, procurement requisitioning, and travel authorization; (4) provides and coordinates services for the extramural award activities of NCEH & ATSDR; (5) formulates and provides overall programmatic direction for planning and management oversight of allocated resources, human resource management and administrative support; (6) develops and directs a system for cost recovery; (7) enables and supports NCEH & ATSDR data management, systems development, and information security needs; (8) directs and coordinates activities in support of the Department's Equal Employment Opportunity program and employee development; (9) coordinates employee training programs; (10) develops and directs employee engagement programs; (11) analyzes NCEH & ATSDR workforce, systems, and resources; and (12) manages and conducts a record management program for NCEH & ATSDR in accordance with Congressional mandate.

Office of Science (CUG15). (1) Ensures NCEH & ATSDR compliance with the various statutes, regulations, and policies governing the conduct of science by the federal government, including: Human subjects research determinations, the protection of human research subjects and the use of Institutional Review Boards (IRBs), the OMB Paperwork Reduction Act (relating to the collection of information from ten or more people in a 12-month period), the OMB Information Quality Bulletin, Confidentiality Protection, and the Health Insurance Portability and Accountability Act of 1996 (HIPAA, and its “Privacy Rule”); and others; (2) develops and maintains the NCEH & ATSDR Clearance Policy and managing and conducting clearance for NCEH & ATSDR documents; (3) coordinates and manages document cross-clearance between NCEH & ATSDR and other parts of CDC; facilitating center reviews of external documents, coordinating and managing information quality requests concerning NCEH & ATSDR documents; (4) coordinates and manages external peer review for NCEH & ATSDR documents and intramural programs; (5) coordinates and manages the activities of the NCEH & ATSDR Board of Scientific Counselors (a Federal Advisory Committee) and its subcommittees and workgroups; (6) coordinates interagency workgroups/committees such as the President's Task Force on Environmental Health Risks and Safety Risks to Children, and the National Toxicology Program Executive Committee; (7) coordinates and manages NCEH & ATSDR involvement in the Epidemic Intelligence Service Program; (8) coordinates NCEH & ATSDR involvement in CDC public health ethics activities; (9) coordinates NCEH & ATSDR involvement in CDC science awards activities (e.g., the Shepard Award, and CDC/ATSDR Honor Awards); (10) organizes and sponsors select training opportunities (e.g., Human Subjects/IRB, OMB/PRA, and eClearance Training for Authors and Reviewers); (11) represents NCEH & ATSDR on various CDC/ATSDR committees, work groups, and task forces, such as the CDC/ATSDR Office of the Chief Science Officer's Excellence in Science Committee, and the CDC Surveillance Science Advisory Group; (12) coordinates NCEH & ATSDR global health activities; (13) coordinates and manages the NCEH & ATSDR Healthy People 2020; (14) prepares an annual inventory of NCEH & ATSDR publications; and (15) pursuant to the National Environmental Policy Act, reviews draft Environmental Impact Statements on behalf of HHS where the proposed federal actions impact human health.

Division of Laboratory Sciences (CUGD). (1) Provides advanced laboratory science to improve the detection, diagnosis, treatment, and prevention of environmental, tobacco-related, nutritional, newborn, selected chronic and selected infectious diseases; (2) provides advanced laboratory science to rapidly and accurately detect chemical threat agents, radiologic threat agents, and selected toxins; (3) develops, maintains, and applies unique, rapid, and high-quality measurement techniques to assess disease risk, identify harmful environmental exposures or nutrition deficiencies among Americans, and respond to public health emergencies (4) provides laboratory measurements in collaborative studies of human disease and vulnerable populations; (5) provides technical assistance, technology transfer, reference laboratory measurements, laboratory standardization programs, and external quality assurance to state and local public health laboratories and health officials; Federal agencies; international organizations; academic, international, and private laboratories; and professional organizations to continuously improve the accuracy, precision, and cost effectiveness of laboratory tests for environmental chemicals, nutrition indicators, heart disease, stroke and newborn screening; and (6) collaborates with other CDC organizations; Federal, State, and local agencies; and private and professional organizations to investigate new or emerging health concerns.

Inorganic and Radiation Analytical Toxicology Branch (CUGDC). (1) Develops, maintains, and distributes, as appropriate, analytical methods to measure trace essential and toxic elements in human specimens; (2) applies analytical methods to assess human exposure to chemicals, including surveillance of levels in the population, epidemiologic studies, and emergency-response investigations; (3) provides training, guidance, and assistance to state and local governments, and domestic and international laboratories in the development, maintenance, and technology transfer of analytical capability for measuring trace-essential and toxic elements in specimens from people and animals; (4) develops and maintains analytical capability and expertise, and distributes, as appropriate, standards, reference materials, and protocols for measuring chemicals in response to both terrorist and non-terrorist events; (5) distributes, as appropriate, standards, reference materials, and protocols to assist state, international, and other laboratories in transferring laboratory technology for urine iodine biomonitoring, blood metals biomonitoring, and radiologic analyses; and (6) provides technical assistance and guidance to governmental agencies, academia, and professional societies regarding quality control issues related to biomonitoring for inorganic and radiologic chemicals.

Clinical Chemistry Branch (CUGDD). (1) Develops and maintains analytical methods and expertise in the measurement, interpretation and standardization of chronic disease biomarkers, chemicals known to cause disease or health concerns, and biological toxins; (2) develops, establishes and maintains laboratory standardization and improvement programs to assist state, national and international agencies and organizations to better diagnose, treat and prevent selected chronic diseases and infectious diseases; (3) applies these analytical methods and standardization procedures to: Assess chronic disease status or human exposure to environmental chemicals, toxins, and pathogens; standardize disease biomarker measurements; and improve the safety and quality of biological preparations; (4) provides laboratory science to diagnose diseases caused by selected viral and bacterial organisms, and assess the effectiveness of disease treatment and prevention efforts; and (5) provides review, expert consultation, technical assistance, training, guidance and/or original scientific publications and information to federal, state, local and international investigations, surveys, studies, and/or government inquiries on topics related to human exposure assessment, standards development, analytical instrumentation as well as prevalence, risk factors, and treatment of chronic diseases, exposure to environmental chemicals, influenza, toxins and human pathogens.

Organic Analytical Toxicology Branch (CUGDE). (1) Develops and maintains analytical methods to measure selected synthetic and naturally occurring organic chemicals, their metabolites, and reaction products (adducts) in human specimens; (2) applies these analytical methods to assess human exposures to these chemicals for many purposes, including surveillance of levels in the population, epidemiological studies, and emergency response investigations; (3) aids in transferring these methods within Division laboratories and to state, local and other public health laboratories; (4) develops and prepares various matrix-based quality control materials for use in such analyses; and (5) provides review, expert consultation, and original scientific publications/information to Federal, state, local, and international governments and health organizations on topics related to human exposure assessment, organic analytical methodology, high technology analytical instrumentation, preparation and analysis of biological specimens, quality control procedures, laboratory safety, and medical interpretation of laboratory findings.

Newborn Screening and Molecular Biology Branch (CUGDG). (1) Provides leadership, technical consultation and assistance in laboratory testing for newborn screening, genetic and other diseases of public health importance to State Public Health laboratories, Federal agencies, academic centers, professional organizations, international laboratories, and manufacturers of diagnostic products involved in performing relevant laboratory measurements; (2) provides leadership, oversight and administration of the dried-blood spot (DBS) quality assurance program that is necessary for both domestic and international laboratories that screen for newborn disorders including metabolic conditions as well as inherited genetic and other select treatable adverse conditions in newborns; (3) develops, evaluates, standardizes, and maintains laboratory methods for biochemical and genetic assays for diseases of public health significance, immune disorders, DBS assays utilized by newborn screening programs worldwide; and (4) evaluates and refines existing and emerging laboratory technologies for measurement and study of biomarkers for clinical applications and population-based screening for diseases and genetic risk factors of public health importance.

Emergency Response Branch (CUGDH). (1) Develops and maintains analytical methods to measure, in human specimens, toxic substances that are known or potential agents for use in chemical terrorism; (2) applies these measurements in response to chemical terrorism or chemical exposure emergencies and, as part of a coordinated Federal response, deploys a rapid response laboratory team to assist in obtaining human specimens for analysis; (3) transfers technology, provides training, and provides technical assistance for measurement of chemical agents in human specimens to a network of laboratories that provide additional capacity for responding to chemical terrorism; (4) provides review and expert consultation to Federal, state, local and international governments and health organizations on assessing and interpreting biomonitoring measurements of chemical agents likely to be used in terrorism; and (5) for toxic substances of public health concern but unlikely to be involved in chemical terrorism, transfers biomonitoring technology (including analytical methods), provides biomonitoring training, and provides technical assistance in biomonitoring to state laboratories.

Nutritional Biomarkers Branch (CUGDJ). (1) Develops and maintains analytical methods and expertise in the measuring and interpreting of physiologic levels of essential nutrients, nonessential nutrients, and relevant metabolites; (2) develops and maintains analytical methods to measure bioactive dietary compounds, other than those needed to meet basic human nutritional needs, that are responsible for changes in health status; (3) applies analytical methods to assess human nutritional status or exposure to bioactive dietary compounds for purposes including surveillance of levels in the population, epidemiological studies, intervention trails, and emergency-response investigations; (4) provides technical assistance, training, and guidance to national, state, international, and local investigations, surveys, food fortification and clinical studies of nutritional status, prevalence, risk factors, and treatment of chronic diseases; and (5) develops, maintains, and distributes, as appropriate, standards, reference materials, protocols, standardization programs, and external quality assessment programs to assist state, international, and other laboratories in transferring laboratory technology and in establishing and maintaining quality control and calibration of methods for nutritional biomarkers and markers of physiologic changes.

Tobacco and Volatiles Branch (CUGDK). (1) Develops, maintains, and applies analytical methods to measure biomarkers of exposure to toxic substances and applies these analytical methods to assess human exposures to volatile organic compounds for many purposes; (2) develops and maintains analytical methods and measures addictive and toxic substances in tobacco products, in tobacco smoke and in the blood, urine and saliva of smokers and persons exposed to tobacco smoke; (3) determines how different tobacco additives and changes in product construction and design affect delivery of addictive and toxic substances from tobacco products to people; (4) for the U.S. population, regularly measures the percent of persons who are smokers and the exposure of Americans to the major toxic constituents of tobacco smoke; (5) for the U.S. population, regularly measures the exposure of Americans to secondhand smoke; and (6) collaborates in human studies of disease risk associated with direct and secondhand tobacco smoke exposure and use of other tobacco products.

Division of Environmental Health Science and Practice (CUGE). (1) Provides national and international leadership for the coordination, delivery, and evaluation of environmental health interventions and services; (2) advances environmental public health practice to better serve and protect the health of all people in the United States; (3) develops methods and conducts activities to assess risk to human populations from exposure to environmental hazards; (4) conducts and disseminates findings of surveillance, epidemiologic research, environmental assessments, and other scientific investigations of human exposure to environmental hazards; (5) develops mechanisms to disseminate information on environmental health interventions, risks, technologies, and best practices to state, tribal, local, and territorial health departments and to other agencies with related responsibilities; (6) maintains liaison with and serves as a primary federal resource for consultation and specialized technical assistance to federal, state, tribal, local, and territorial agencies; other national, international, and private organizations; and academic institutions for environmental health issues; (7) provides consultation and technical assistance on the development and implementation of environmental health programs addressing the prevention of human health problems associated with environmental hazards; (8) serves as CDC lead on safe water issues with focus on an all-hazards approach to recreational water, drinking water systems, private wells, and other private drinking water sources; (9) serves as CDC lead for control and prevention of environmental causes of Legionnaires' disease; (10) serves as CDC lead for prevention of environmental causes of foodborne illnesses and outbreaks; (11) operates a model vessel sanitation program that includes the development of standards, inspection of vessels, sanitation and disease prevention training of the cruise ship industry, conducting gastrointestinal (GI) illness surveillance and disease outbreak investigations on vessels sailing internationally; (12) provides guidance and technical assistance to the cruise ship industry on the control and prevention of GI illnesses on vessels; (13) plans, develops, implements, and evaluates training programs, workshops, technical manuals and guidance, and model standards to strengthen the technical capacity of environmental health practitioners in constituent agencies and organizations, including state, tribal, local, and territorial governments; (14) provides leadership in the development and implementation of asthma control programs and strategies to reduce the asthma exacerbations and deaths; (15) serves as CDC lead for epidemiologic research and investigations of respiratory diseases, other illnesses related to air pollutants, and outbreaks of acute respiratory diseases related to environmental hazards; (16) serves as CDC lead for climate-related public health activities; (17) provides national and international leadership and support in the development, implementation and use of environmental health surveillance through the National Environmental Public Health Tracking Program and related efforts for climate, asthma, lead, radiation, and other environmentally related conditions; (18) serves as the CDC lead for the elimination and prevention of childhood lead poisoning; (19) provides radiation health expertise and leadership in areas addressing public exposures to radiation including environmental exposures, medical exposures, and nuclear/radiological emergency preparedness and response; (20) serves as the HHS and CDC lead for public health oversight associated with chemical weapons demilitarization processes and related activities conducted by the Department of Defense and its contractors; (21) conducts emergency response and associated field studies to address natural or man-made events, disease outbreaks, and requests for epidemiologic, toxicologic, or other environmental health assistance from federal, state, local, territorial, tribal or international governments; (22) ensures the participation and involvement of the public and other stakeholders in the division's programs, as appropriate; and (23) coordinates division activities with other CDC components and HHS agencies, as appropriate.

Office of the Director (CUGE1). (1) Plans, directs and manages the activities of the division; (2) directs strategic planning and alignment with NCEH & ATSDR mission, goals, and priorities; (3) coordinates cross-cutting activities on children's health, healthy homes, tribal activities, surveillance harmonization, emergency preparedness, and workforce development; (4) serves as a conduit to intra and inter-agency entities through active collaborations, strategic planning efforts and formal exchange with emergency preparedness and response stakeholders including intelligence, legislative, & budgetary entities; (5) coordinates NCEH and ATSDR emergency management resources to support efforts to protect the public's health from environmental threats; and (6) provides incident management and coordination for complex emergency management including the development, approval, and updating of standardized processes to enable appropriate and adequate management of resources.

Water, Food, and Environmental Health Services Branch (CUGEB). (1) Advances environmental public health practice to better serve and protect the health of all people in the United States; (2) provides leadership on safe water activities from an environmental public health perspective, with particular focus on an all-hazards approach to recreational water, drinking water systems, household wells, and other private drinking water sources; (3) investigates risks for exposure to and health effects from contaminants in drinking water to identify hazardous exposures and develop recommendations for minimizing exposure and reducing public health risks; (4) disseminates, communicates, and promotes information to protect communities from adverse health impacts from water pollutants; (5) serves as CDC lead for prevention of environmental causes of foodborne illnesses and outbreaks; (6) develops methods and conducts activities to ensure the translation of new technology and prevention research findings into prevention and control programs and activities at the state, tribal, local, and territorial levels (especially for water and food safety); (7) develops technical guidelines and model standards for environmental health program areas addressed at the state, tribal, local, and territorial levels (especially for water and food safety); (8) promotes and assists in the determination and investigation of environmental antecedents and solutions to disease problems, especially when potentially related to waterborne or foodborne agents; (9) develops, implements, and evaluates training programs and workshops, develops model performance standards, and provides decision support tools to strengthen professional competency among environmental health practitioners at the state, tribal, local, and territorial levels; (10) supports state and local environmental health programs through information exchange, direct technical assistance, and evaluation of existing programs; (11) supports the professional development of environmental health practitioners through collaboration with schools of public and environmental health, state, tribal, local, and territorial health agencies, and others; (12) serve as NCEH & ATSDR lead for vector-borne disease, in collaboration with and support of other CDC components; (13) serves as national and international model and CDC lead for comprehensive vessel sanitation operational inspections and oversight for vessels that have a foreign itinerary, call on U.S. ports, and carry 13 or more passengers, including the following responsibilities: (a) Ensures and coordinates epidemiologic investigations of GI illness outbreaks occurring aboard vessels within CDC's jurisdiction, (b) conducts syndromic surveillance for GI illness among passengers and crew for all voyages on vessels under CDC's jurisdiction, (c) plans, implements, and evaluates sanitation training for cruise ship supervisors, (d) reviews plans for vessel renovations and new vessel construction, and conducts construction inspections, (e) disseminates information on vessel sanitation inspections and other related information to the traveling public, (f) provides direct technical assistance to cruise lines, other U.S. government agencies, foreign governments, and others on the development and maintenance of vessel sanitation standards and policies; and (14) coordinates activities through the division and with other components of CDC; other federal, state, tribal, local, and territorial government agencies; and other public and private organizations, as appropriate.

Asthma and Community Health Branch (CUGEC). (1) Develops, implements, and evaluates the National Asthma Control Program to reduce asthma morbidity and mortality and to address asthma disparities; (2) conducts epidemiologic research and investigations of asthma morbidity and mortality; (3) supports surveillance activities for asthma, and other respiratory diseases as appropriate, to quantify burden and guide interventions; (4) identifies the evidence for and promotes and tracks interventions that reduce the burden of asthma, focusing on populations with a disproportionate burden of the disease; (5) develops and disseminates training, tools and other resources to strengthen and sustain asthma control activities and technical capacity among program partners at the national, state, local, territorial, and tribal level; (6) provides technical consultation to state, local, private, international, and other federal agencies on asthma control, surveillance, epidemiology, and evaluation; (7) disseminates, communicates, and promotes information from surveillance and health studies related to asthma control to diverse audiences; (8) assesses the strength of evidence on air pollution exposures and public health; (9) conducts epidemiologic research and investigations of non-occupational human exposure to air pollutants and their potential health effects; (10) develops methods for assessing exposure and risk to human health from air pollutants and, in selected circumstances, conducts exposure and risk assessments; (11) designs and evaluates behavioral, policy, technological, and community design interventions to reduce exposures to air pollution and improve health; (12) facilitates international efforts to reduce indoor air pollution from cookstoves; (13) develops and coordinates training and decision support tools to strengthen and sustain air pollution activities and technical capacity among program partners at the national, state, local, territorial, and tribal level; (14) provides consultation to federal, state, local, territorial, tribal, private, and international agencies on non-occupational environmental issues related to air pollutants; (15) disseminates, communicates, and promotes information to protect communities from adverse health impacts from air pollution; (16) conducts epidemiologic research into the potential health effects of climate change and climate variability; (17) develops methods for assessing current and projected future risk to human health from climate change and climate variability; (18) designs and evaluates public health adaptation and intervention strategies for reducing the impacts of climate change and climate variability on health; (19) develops and coordinates training and decision support tools to strengthen and sustain public health adaptation activities related to climate change and climate variability; (20) helps build technical capacity among program partners at the national, state, local, territorial, and tribal level; (21) provides consultation to state, local, private, international, and other federal agencies on human health issues related to climate change and climate variability; (22) disseminates, communicates, and promotes information about public health adaptation to climate change and climate variability to diverse audiences; (23) enhances healthy community design by helping public health, and transportation by providing convenient and safe opportunities to walk, bicycle, and use public transit; (24) develops and maintains quality partnerships with key program stakeholders; and (25) coordinates asthma, air, and climate activities through the division and with other components of CDC; other federal, state, tribal, local, and territorial government agencies; and other public and private organizations, as appropriate.

Lead Poisoning Prevention and Environmental Health Tracking Branch (CUGED). (1) Implements the National Environmental Public Health Tracking Program, establishing goals and objectives to ensure the provision of information from a nationwide network of integrated health and environmental data that drives actions to improve the health of communities; (2) establishes standards, processes, and protocols to guide scientific activities and content in the National Environmental Public Health Tracking Network and component state, local, territorial and tribal networks; (3) provides standardized and integrated health, environmental, and hazard data from multiple information systems at the national, state, and local levels; (4) fills key environmental health data and information gaps through application of novel and nontraditional data, technologies, tools and methods; (5) coordinates development of training, workforce capacity, and infrastructure to support and sustain environmental public health tracking among program partners at the national, state, local, territorial, and tribal level; (6) develops tools and products used to synthesize environmental public health surveillance data to support public health decision making at the national, state, and local levels; (7) continually modernizes and enhances the tracking network's underlying IT and informatics technology to address stakeholder information needs; (8) develops and maintains quality partnerships with key environmental public health tracking stakeholders; (9) facilitates communication and coordination of environmental public health tracking activities across and within health and environmental agencies; (10) facilitates and conducts scientific activities for environmental public health tracking; (11) disseminates, communicates, and promotes use of environmental public health tracking information to diverse audiences; (12) conducts continuous quality improvement for environmental public health tracking activities; (13) establishes goals and objectives for a national childhood lead poisoning prevention program for CDC, which includes reduction of lead exposures from all sources, including lead-based paint and lead in water; (14) works with U.S. Department of Housing and Urban Development, U.S. Environmental Protection Agency, U.S. Department of Agriculture, U.S. Department of Energy, National Institute of Standards and Technology and other agencies to develop and implement an integrated national program to eliminate childhood lead poisoning; (15) serves as the lead agency for coordinating efforts designed to achieve national program objectives and performance standards related to the prevention of childhood lead poisoning; (16) provides consultation and assistance to federal agencies, state and local health agencies, and others in planning, developing, and implementing childhood lead poisoning prevention programs; (17) develops, conducts, and evaluates epidemiologic research on childhood lead poisoning, its causes, geographic distribution, trends and risk factors; (18) assists state and local government agencies by providing epidemiologic assistance for special studies and investigations related to childhood lead poisoning prevention; (19) develops and helps implement, in concert with other federal agencies, national organizations, and other appropriate groups, a training agenda for health professionals and workers related to childhood lead poisoning prevention activities; (20) provides support to the CDC/NCEH Federal Advisory Committee relevant to lead poisoning prevention; and (21) coordinates environmental health surveillance/tracking and childhood lead poisoning prevention activities through the division and with other components of CDC; other federal, state, tribal, local, and territorial government agencies; and other public and private organizations, as appropriate.

Emergency Management, Radiation, and Chemical Branch (CUGEE). (1) Provides scientifically based technical assistance and guidance to state, local, tribal, and territorial health departments to safeguard the American public against radiation exposures; (2) provides radiation-related education, training, and information to the public health and clinician communities and the general public; (3) collaborates with public health partners in state, tribal, local, territorial, federal, international, and nongovernment organizations on radiation-related health issues; (4) supports the ability of CDC and HHS staff to prepare for and respond to nuclear/radiological emergencies; (5) explores emerging radiation-related health threats; (6) serves as the HHS and CDC lead for activities related to chemical weapons demilitarization; (7) conducts reviews of Department of Defense (DOD) chemical demilitarization plans, calling on appropriate experts within and outside CDC and HHS; (8) reviews air monitoring and analytical plans and performance for demilitarization of chemical weapons; (9) ensures that adequate provisions are made for public health and worker safety during chemical demilitarization activities; (10) coordinates activities with DOD agencies and state and local health and environmental agencies concerning chemical demilitarization plans and operations, including the evaluation of medical readiness; (11) performs site visits before and during chemical demilitarization operations; (12) reviews and provides relevant public health information to health professionals and the public, and ensures the participation and involvement of the public and other stakeholders, as appropriate; (13) reviews and evaluates closure plans for chemical demilitarization including decontamination and waste-handling activities; (14) reviews on-site emergency response plans for chemical demilitarization activities; (15) conducts epidemiologic research and investigations of human exposure and health effects related to environmental hazards (excluding foodborne illness outbreaks and lead, air and water pollution) of the following types: (a) Physical agents, (b) chemical and metal agents, including those causing acute effects and other more long-term effects such as carcinogenesis, mutagenesis, and teratogenesis, (c) biological agents, including both technologic and natural toxins and/or allergens (except infectious disease-causing agents), (d) natural and technologic disasters, including natural events such as floods, drought, tornadoes, cyclones, earthquakes, and volcanic eruptions, and events resulting from human activities, (e) diseases and syndromes of uncertain etiology and/or potentially related to environmental hazards, (f) multipollutant or multimedia studies, (g) emerging environmental topics that may impact public health; (16) provides epidemiologic leadership, technical assistance, and guidelines related to investigation and communications of disease clusters; (17) provides epidemiologic and statistical support to other environmental health programs as appropriate; (18) develops methods and activities directed toward assessing risk to human populations from exposure to environmental hazards; (19) provides surveillance, epidemiologic emergency response for, and epidemiologic study of natural and other environmental disasters; (20) provides consultation to state, local, and other federal agencies, as well as to international and private organizations, on environmental health issues; (21) provides public health guidance and resources based on scientific evidence to state, tribal, local, territorial, and international public health departments so that they may prepare and respond to environmental public health events (such as unplanned releases and spills); (22) works in collaboration across NCEH & ATSDR and other CDC components to respond to and, where designated, provide technical assistance on HHS activities associated with emergency response to technological and environmental disasters; (23) provides technical assistance, as appropriate, on health consultations and assistance in the medical care and testing of exposed individuals to private or public health care providers in cases of public health emergencies; (24) develops, implements, and manages programs to enhance the emergency response readiness of CDC and other national, regional, state, local, and international public health organizations; (25) develops capacity within the states to integrate new and existing epidemiological and scientific principles into operational and programmatic expertise in emergency preparedness, response, and recovery; (26) identifies and shares best practices from all academic and operational fields to develop appropriate technical assistance for state and local departments of health for all-hazards preparedness, response, and recovery; (27) provides technical assistance related to the development of contingency plans, training, and operational liaison activities with other agencies and response teams engaged in emergency responses; (28) coordinates activities through the division and with other components of CDC; other federal, state, tribal, local, and territorial government agencies; and other public and private organizations, as appropriate; (29) supports NCEH and ATSDR emergency management efforts to protect the public's health from environmental threats; (31) facilitates situational awareness, fusion, and outreach by developing and disseminating timely assessments of evolving events, courses of action, and communication to intra and inter-agency partners; (32) supports incident management and coordination for complex emergency management including the development, approval, and updating of standardized processes to enable appropriate and adequate management of resources; (33) serves as the NCEH & ATSDR subject matter experts for facilitating emergency management planning, training, and exercise; including identification of requirements, key skillsets/capabilities, capacity, and critical gaps in our preparedness posture; (34) works with the National Response Program and CDC guidelines to collaborate with stakeholders during emergency response situations; and (35) provides technical information and site-specific support in addressing the health issues presented by emergency or acute release events, and on the nature, extent, status, and implications of ongoing, emerging, and evolving threats and subsequent efforts to reduce their adverse impacts.

Sherri Berger,
Chief Operating Officer, Centers for Disease Control and Prevention.

[FR Doc. 2018-02821 Filed 2-12-18; 8:45 am]

BILLING CODE 4160-18-P